DEPARTMENT OF COMMERCE

National Oceanic and Atmospheric Administration

[RTID 0648-XF388]

Pacific Fishery Management Council; Public Meeting

AGENCY: National Marine Fisheries Service (NMFS), National Oceanic and Atmospheric Administration (NOAA), Commerce.

ACTION: Notice of public meetings.

SUMMARY: The Pacific Fishery Management Council's (Pacific Council) Scientific and Statistical Committee (SSC) will hold a virtual meeting to review additional analyses of the 2025 widow rockfish stock assessment and other requests from the November 2025 Pacific Council meeting. The Pacific Council's SSC Groundfish Subcommittee (GFSC) will hold a virtual meeting to review the 2025 groundfish stock assessment process and discuss process improvements for the next stock assessment cycle, to inform future revisions to the Terms of Reference for the Groundfish Stock Assessment Review Process, the Terms of Reference for Groundfish Rebuilding Analysis, and the Accepted Practices Guidelines for Groundfish Stock Assessments. The Pacific Council's Groundfish Management Team (GMT) will hold a hybrid in-person/webinar work session to consider and develop items on the Pacific Council's 2026 Year-at-a-Glance calendar. These meetings are open to the public.

DATES: The SSC supplemental review meeting will be held Tuesday, January 20, 2026, from 9 a.m. until 5 p.m. (Pacific Standard Time) or until business for the day has been completed, and will continue on Thursday, January 22, 2026, from 9 a.m. until 5 p.m. or until business for the day has been completed.

The SSC GFSC process review meeting will be held Wednesday, January 21, 2026, from 9 a.m. until 5 p.m. (Pacific Standard Time) or until business for the day has been completed, and will continue on Friday, January 23, 2026, from 9 a.m. until 5 p.m. or until business for the day has been completed.

The GMT meeting will be held Monday, February 2, 2026, from 12:30 p.m. (Pacific Standard Time) until business for the day has been completed. The GMT will reconvene Tuesday, February 3 through Friday, February 6, 2026, from 8:30 a.m. until business for each day has been completed.

ADDRESSES: The SSC and SSC GFSC meetings will be conducted online. Specific meeting information, materials, and instructions for how to connect to the meeting remotely will be provided in the meeting announcement on the Pacific Council's website (see www.pcouncil.org).

The GMT meeting will be held at the Pacific Fishery Management Council Office, Large Conference Room, 7700 NE Ambassador Place, Suite 101, Portland, Oregon 97220-1384. This work session is being conducted in person with a web broadcast that provides the opportunity for remote public comment. Specific meeting information, including directions on how to join the meeting and system requirements will be provided in the meeting announcement on the Pacific Council's website (see www.pcouncil.org). Please contact Kris Kleinschmidt (kris.kleinschmidt@pcouncil.org) or (503) 820-2412 for technical assistance.

Council address: Pacific Fishery Management Council, 7700 NE Ambassador Place, Suite 101, Portland, Oregon 97220.

FOR FURTHER INFORMATION CONTACT: Todd Phillips, Staff Officer, Pacific Council; telephone: (503) 820-2426, email: Todd.Phillips@pcouncil.org.

SUPPLEMENTARY INFORMATION: The full SSC supplemental review meeting will focus on any additional analyses for the 2025 widow rockfish stock assessment as requested by the Pacific Council at their November 2025 meeting. The SSC will prepare their recommendations for the Pacific Council consideration at their March 2026 meeting. No management actions will be decided by the SSC.

The SSC GFSC's meeting will include, (a.) evaluation of the 2025 groundfish stock assessment review process to solicit process improvements for future reviews, (b.) discuss potential changes to the Terms of Reference for the Groundfish Stock Assessment Review Process for 2027 and 2028, and Terms of Reference for the Groundfish Rebuilding Analysis for 2027 and 2028, that will inform the process for conducting and reviewing groundfish assessments and rebuilding analyses in the next cycle, and (c.) discuss potential changes to the Accepted Practices Guidelines for Stock Assessments in 2027 and 2028, which is a compilation of guidelines for groundfish stock assessment scientists. Stock assessment teams and review participants are encouraged to attend, as well as members of the Pacific Council's groundfish advisory bodies in order to prepare their recommendations to the Pacific Council.

No management actions will be decided by the SSC GFSC. Process improvement recommendations and proposed changes to the Terms of Reference and Accepted Practices Guidelines documents will first be considered during this online meeting, with a GFSC post-meeting report to the full SSC at their March 2026 meeting. The Pacific Council is scheduled to conduct scoping of the Terms of Reference for the 2027-2028 stock assessment cycle at their March 2026 meeting in Sacramento, California. The Pacific Council is scheduled to adopt preliminary Terms of Reference for the 2027-2028 stock assessment cycle for public review at their June 2026 meeting and adopt final at their November 2026 meeting.

The primary purpose of the GMT work session is to prepare for 2026 Pacific Council meetings. Specific agenda items will include: 2027-28 harvest specifications and management measure process and workload and new management measure prioritization. The GMT may also address groundfish management actions the Pacific Council has indicated on their Year-at-a-Glance calendar, such as the 2026 Pacific whiting fishery, specifications flexibility, and stock assessment terms of reference. A detailed agenda will be available on the Pacific Council's website prior to the meeting.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Kris Kleinschmidt (kris.kleinschmidt@pcouncil.org; (503) 820-2412) at least 10 days prior to the meeting date.

Authority: 16 U.S.C. 1801 et seq.

Dated: December 11, 2025.
Rey Israel Marquez,
Acting Deputy Director, Office of Sustainable Fisheries, National Marine Fisheries Service.

[FR Doc. 2025-22779 Filed 12-12-25; 8:45 am]

BILLING CODE 3510-22-P